DEPARTMENT OF HEALTH AND HUMAN SERVICES

Centers for Disease Control and Prevention

[60Day-20-1175; Docket No. CDC-2020-0006]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled the Environmental Public Health Tracking Network, an information system which collects data from other CDC programs such as the National Center for Health Statistics, other federal agencies such as the Environmental Protection Agency, publicly accessible systems such as the Census Bureau, and funded and unfunded state and local health departments (SLHD).

DATES: CDC must receive written comments on or before April 10, 2020.

ADDRESSES: You may submit comments, identified by Docket No. CDC-2020-0006 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Environmental Public Health Tracking Network (OMB Control No. 0920-1175, Exp. 04/30/2020)—Revision—National Center for Environmental Health (NCEH), Centers for Disease Control and Prevention (CDC).

Background and Brief Description

In September 2000, the Pew Environmental Health Commission issued a report entitled “America's Environmental Health Gap: Why the Country Needs a Nationwide Health Tracking Network.” In this report, the Commission documented that the existing environmental health systems were inadequate and fragmented, and recommended a “Nationwide Health Tracking Network for disease and exposures.” In response to the report, Congress appropriated funds in the fiscal year 2002's budget for the CDC to establish the National Environmental Public Health Tracking Network (Tracking Network).

Continuously since 2008, and at the national level, the program collects data from (1) other CDC programs such as the National Center for Health Statistics, (2) other federal agencies such as the Environmental Protection Agency, (3) publicly accessible systems such as the Census Bureau, and (4) funded and unfunded state and local health departments (SLHD). These data are integrated into and disseminated from the Tracking Network and used for analyses which can inform national programs, interventions, or policies; guide further development and activities within the Tracking Program; or advance the practice and science of environmental public health tracking. The Tracking Program also collects information from funded SLHD to monitor their progress related to their funding and for program evaluation. This information collection request (ICR) is focused on data and information gathered by the Tracking Program from SLHD. The CDC requests a three-year approval to revise the “Environmental Public Health Tracking Network (Tracking Network)” (OMB Control No. 0920-1175; Expiration Date 04/30/2020). Specifically, CDC seeks to make the following changes:

1. For Tracking Data, minor changes are requested for the following instruments:

a. (Attachment 4F) Radon testing—removed 33 elements and added 4 elements.

2. For Program Data, minor changes are requested for the following instruments:

a. (Attachment 5A) EPHT Work Plan—added ten keyword questions.

b. (Attachment 5B) Public Health Action Report—added 4 questions.

c. (Attachment 5C) Performance Measurement Strategy Report (previously Attachment 5D)—removed 2 questions/elements and reduce reporting to once a year.

d. Attachment 5D—Communication Plan Template and Guide (previously Attachment 5C)—streamlined template for more efficient reporting.

e. Attachment 5E—Partnership Plan Template and Guide—(previously Attachment 5C)—partnership plan was separated from communication plan for clarity.

f. Attachment 5F—website Analytics Template (previously Attachment 5E)—created an excel reporting template with one cell for each question.

The three-year approval will allow CDC to continue collecting health, exposure, and hazard data for environmental health surveillance as well as program monitoring information from funded SLHD through the current five-year cooperative agreement—“Enhancing Innovation and Capabilities of the Environmental Public Health Tracking Network” (CDC-RFA-EH17-1720).

The Tracking Network provides the United States with accurate and timely standardized data from existing health, exposure, and hazard surveillance systems and supports ongoing efforts within the public health and environmental sectors. The goal of the Tracking Network is to improve health tracking, exposure and hazard monitoring, and response capacity. When such data are available, the Tracking Program obtains data from national or public sources in order to reduce the burden on SLHD. When data are not available nationally or publicly, the Tracking Program relies on funded SLHD to obtain and submit these data to the Tracking Network. Data from unfunded SLHD are accepted but not requested or solicited.

Data submitted annually by SLHD to the Tracking Program include: (1) Birth defects prevalence, (2) childhood lead blood levels, if a SLHD does not already report such data to CDC, (3) community drinking water monitoring, (4) emergency department visits, (5) hospitalizations, and (6) radon testing. The Tracking Program receives childhood lead blood levels data from CDC's Childhood Lead Poisoning Prevention Program (under the Healthy Homes and Lead Poisoning Surveillance System [HHLPSS—OMB Control No. 0920-0931, expiration date 5/31/2018]). A metadata record, a file describing the original source and collection procedures for the data being submitted, is also submitted with each dataset (1 per dataset for a total of 6 metadata records per year) using the Tracking Program's metadata creation tool.

Standardized extraction, formatting, and submission processes are developed in collaboration between CDC and SLHD for each dataset. Additions or modifications to these standardized datasets will also be developed collaboratively in order to improve the accuracy, completeness, efficiency, or utility of data submitted to CDC. Such changes will occur at most once a year. Examples of changes to data processes may include: (1) Addition of new variables or outcomes, (2) updates to case definitions, (3) modifications to temporal or spatial aggregation, and (4) changes in formatting for submission. As required, the Tracking Network will submit future additions and modifications as nonsubstantive change requests or revision ICRs.

Over the past three years, these data have been

• Used to calculate standardized measures for environmental health surveillance

• Integrated into the Tracking Network and disseminated to the public via the Tracking Network's National Public Portal at http://ephtracking.cdc.gov/showHome.action.

• Queried 577,058 times via the Tracking Network's National Public Portal

• Conduct analyses such as

○ A review of air and water quality differences between rural and urban counties

○ The development of standardized sub-county geographies for disseminating health data.

○ An analysis of the short-term associations between air pollution and respiratory emergency department visits across all age groups.

The Tracking Program also collects program monitoring information from funded SLHD. In addition to standard reporting required by CDC's Procurement and Grants Office, the Tracking Program also collects information from funded SLHD for the purposes of program evaluation and monitoring. This information includes an Environmental Public Health Tracking Workplan Template, a Performance Measure Report, a Communication Plan, a Partnership Plan, and a website Analytics Template. Each of these forms are collected annually as documents emailed to the Tracking Program. A public health action (PHA) report is submitted at least once and up to four times a year via email to the Tracking Program as funded SLHD have PHA to report.

Over the past three years, these data were used to identify funded SLHD in need of additional technical assistance, identify common challenges and successes, improve communication between funded SLHD and CDC, and to monitor funded SLHD compliance with funding requirements.

There are no costs for the respondents other than their time. The total estimated time burden is 21,860 hours. This estimate includes the time it takes to extract the data from the original data source(s), standardize and format the data to match the corresponding Tracking Network data form, and submit the data to the Tracking Network. In some cases, the data at the source are centralized and easily extracted. In other cases, like for radon data, the data are not. In those cases, the number of hours for extracting and standardizing the data is much greater. Four respondents have been added to the 26 SLHDs the program currently funds to account for the data voluntarily received from unfunded SLHDs and to allow for potential program growth over the next three years.

Estimated Annualized Burden Hours
Type of respondent | Form name | Number of respondents | Number of responses per respondent | Avg. burden per response (in hrs.) | Total burden (in hrs.)
State and local health departments | Birth defects prevalence | 22 | 1 | 80 | 1760
| Childhood lead blood levels | 18 | 1 | 80 | 1440
| Community drinking water monitoring | 30 | 1 | 100 | 3000
| Emergency department visits | 30 | 1 | 80 | 2400
| Hospitalizations | 30 | 1 | 80 | 2400
| Radon testing | 18 | 1 | 100 | 1800
| Metadata records | 30 | 6 | 20 | 3600
| EPHT Work Plan | 30 | 1 | 40 | 1200
| Public Health Action Report | 30 | 4 | 20 | 2400
| Performance Measure Report | 30 | 1 | 20 | 600
| Communications plan | 30 | 1 | 20 | 600
| Partnership plan | 30 | 1 | 20 | 600
| Website analytics | 30 | 2 | 1 | 60
Total |  |  |  |  | 21,860

Jeffrey M. Zirger,
Lead, Information Collection Review Office, Office of Scientific Integrity, Office of Science, Centers for Disease Control and Prevention.

[FR Doc. 2020-02542 Filed 2-7-20; 8:45 am]

BILLING CODE 4163-18-P